DEPARTMENT OF THE INTERIOR

Bureau of Land Management

[OR-030-1020-PG; G 03-0116]

Southeast Oregon Resource Advisory Council; Notice of Meeting

AGENCY: Bureau of Land Management (BLM), Vale District.

ACTION: Meeting notice for the Southeast Oregon Resource Advisory Council.

SUMMARY: The Southeast Oregon Resource Advisory Council (SEORAC) will meet at the Summer Lake Inn located on the west shore of Summer Lake in Eastern Oregon, 31501 Highway 31, Summer Lake, Oregon 97640, (800) 261-2778 from 8 a.m. to 5 p.m., Pacific Time PT), on Tuesday, May 27, 2003. On Wednesday, May 28, 2003 there will be a field trip to Christmas Valley to view Off Highway Vehicle (OHV) issues.

The meeting topics that may be discussed by the Council include a discussion of issues within southeast Oregon related to North Lake Recreation Plan, Birch Creek Management Plan, Wildland Fire Board, OHV, Wild Horse & Burro, Rangeland Assessment, Federal officials' updates, and other matters as may reasonably come before the Council. The entire meeting is open to the public. Information to be distributed to the Council members is requested in written format 10 days prior to the Council meeting. Public comment is scheduled for 11:15 a.m. to 11:45 a.m., Pacific Time (PT), on Tuesday, May 27, 2003. For the tour scheduled for Wednesday, May 28, 2003, please contact the BLM office listed below for exact times as the date approaches.

FOR FURTHER INFORMATION CONTACT: Additional information concerning the SEORAC may be obtained from Peggy Diegan, Management Assistant/Webmaster, Vale District Office, 100 Oregon Street, Vale, OR 97918 (541) 473-3144, or Peggy_Diegan@or.blm.gov and/or from the following Web site <http://www.or.blm.gov/SEOR-RAC>.

Dated: March 17, 2003.
David R. Henderson,
District Manager.

[FR Doc. 03-6784 Filed 3-20-03; 8:45 am]

BILLING CODE 4310-33-P